SMALL BUSINESS ADMINISTRATION

13 CFR Part 121

Size Eligibility Requirements for SBA Financial Assistance and Size Standards for Agriculture

Correction

In rule document 01-14222 beginning on page 30646 in the issue of Thursday, June 7, 2001, make the following correction:

§121.201 [Corrected]

On page 30648, in the table, a dollar sign ($) should have appeared before each number in the table's third column, as shown below:

Small Business Size Standard by NAICS Industry
NAICS code | Description (N.E.C.=not elsewhere classified) | Size standard in number of employees or millions of dollars
Sector 11—Agriculture, Forestry, and Fishing
Subsector 111—Crop Production
111110 | Soybean Farming | $0.75
111120 | Oilseed (except Soybean) Farming | $0.75
111130 | Dry Pea and Bean Farming | $0.75
111140 | Wheat Farming | $0.75
111150 | Corn Farming | $0.75
111160 | Rice Farming | $0.75
111191 | Oilseed and Grain Combination Farming | $0.75
111199 | All Other Grain Farming | $0.75
111211 | Potato Farming | $0.75
111219 | Other Vegetable (except Potato) and Melon Farming | $0.75
111310 | Orange Groves | $0.75
111320 | Citrus (except Orange) Groves | $0.75
111331 | Apple Orchards | $0.75
111332 | Grape Vineyards | $0.75
111333 | Strawberry Farming | $0.75
111334 | Berry (except Strawberry) Farming | $0.75
111335 | Tree Nut Farming | $0.75
111336 | Fruit and Tree Nut Combination Farming | $0.75
111339 | Other Noncitrus Fruit Farming | $0.75
111411 | Mushroom Production | $0.75
111419 | Other Food Crops Grown Under Cover | $0.75
111421 | Nursery and Tree Production | $0.75
111422 | Floriculture Production | $0.75
111910 | Tobacco Farming | $0.75
111920 | Cotton Farming | $0.75
111930 | Sugarcane Farming | $0.75
111940 | Hay Farming | $0.75
111991 | Sugar Beet Farming | $0.75
111992 | Peanut Farming | $0.75
111998 | All Other Miscellaneous Crop Farming | $0.75
Subsector 112—Animal Production
112111 | Beef Cattle Ranching and Farming | $0.75
112112 | Cattle Feedlots | $1.50
112120 | Dairy Cattle and Milk Production | $0.75
112210 | Hog and Pig Farming | $0.75
112310 | Chicken Egg Production | $9.00
112320 | Broilers and Other Meat Type Chicken Production | $0.75
112330 | Turkey Production | $0.75
112340 | Poultry Hatcheries | $0.75
112390 | Other Poultry Production | $0.75
112410 | Sheep Farming | $0.75
112420 | Goat Farming | $0.75
112511 | Finfish Farming and Fish Hatcheries | $0.75
112512 | Shellfish Farming | $0.75
112519 | Other Animal Aquaculture | $0.75
112910 | Apiculture | $0.75
112920 | Horse and Other Equine Production | $0.75
112930 | Fur-Bearing Animal and Rabbit Production | $0.75
112990 | All Other Animal Production | $0.75
* * * * * * *

[FR Doc. C1-14222 Filed 6-13-01; 8:45 am]

BILLING CODE 1505-01-D